DEPARTMENT OF LABOR

Employment and Training Administration

[TA-W-85,742]

General Motors Lake Orion Assembly, Including On-Site Leased Workers From Development Dimensions International, Eurest Services, Inc., Labor Ready, and Team Industrial Services, Inc. dba Team Solutions, Lake Orion, Michigan; Amended Certification Regarding Eligibility To Apply for Worker Adjustment Assistance and Alternative Trade Adjustment Assistance

In accordance with Section 223 of the Trade Act of 1974, as amended (“Act”), 19 U.S.C. 2273, the Department of Labor issued a Certification of Eligibility to Apply for Worker Adjustment Assistance on January 21, 2015, applicable to workers of General Motors Lake Orion Assembly, Lake Orion, Michigan, including on-site leased workers from Development Dimensions International. The Department's notice of determination was published in the Federal Register on February 18, 2015 (80 FR 8696).

At the request of the State Workforce Office, the Department reviewed the certification for workers of the subject firm. The workers were engaged in activities related to the production of mini/subcompact and compact automobiles.

The company reports that workers leased from Eurest Services, Inc., Labor Ready, and Team Industrial Services, Inc. dba Team Solutions, were on-site at the Lake Orion, Michigan location of General Motors Lake Orion Assembly, Lake Orion, Michigan. The Department has determined that these workers were sufficiently under the control of the subject firm to be considered leased workers.

Based on these findings, the Department is amending this certification to include workers leased from Eurest Services, Inc., Labor Ready, and Team Industrial Services, Inc. dba Team Solutions, working on-site at the Lake Orion, Michigan, location of General Motors Lake Orion Assembly.

The amended notice applicable to TA-W-85,742 is hereby issued as follows:

All workers of General Motors Lake Orion Assembly, including on-site leased workers from Development Dimensions International, Eurest Services, Inc., Labor Ready, and Team Industrial Services, Inc. dba Team Solutions, Lake Orion, Michigan, who became totally or partially separated from employment on or after December 19, 2013 through January 21, 2017, are eligible to apply for adjustment assistance under Chapter 2 of Title II of the Trade Act of 1974, as amended, and are also eligible to apply for alternative trade adjustment assistance under Section 246 of the Trade Act of 1974, as amended.

Signed in Washington, DC, this 26th day of September, 2016.
Hope D. Kinglock,
Certifying Officer, Office of Trade Adjustment Assistance.

[FR Doc. 2016-26999 Filed 11-8-16; 8:45 am]

BILLING CODE 4510-FN-P